DEPARTMENT OF LABOR

Employment and Training Administration

[TA-W-70,098]

American Roller Bearing, Hiddenite, NC; Notice of Termination of Investigation

Pursuant to Section 221 of the Trade Act of 1974, as amended, an investigation was initiated on June 9, 2009, in response to a petition filed by a company official on behalf of workers of American Roller Bearing, Hiddenite, North Carolina.

The petitioning group of workers is covered by an earlier petition (TA-W-71,074) filed on June 3, 2009 that is the subject of an ongoing investigation for which a determination has not yet been issued. Consequently, further investigation in this case would serve no purpose, and the investigation has been terminated.

Signed at Washington, DC, this 17th day of July 2009.
Elliott S. Kushner,
Certifying Officer, Division of Trade Adjustment Assistance.

[FR Doc. E9-18654 Filed 8-4-09; 8:45 am]

BILLING CODE 4510-FN-P